INTERNATIONAL TRADE COMMISSION

[Investigation No. 337-TA-1128]

Certain Lithography Machines and Systems and Components Thereof (I) Termination of Investigation on the Basis of Settlement

AGENCY: U.S. International Trade Commission.

ACTION: Notice.

SUMMARY: Notice is hereby given that the U.S. International Trade Commission has determined not to review the presiding administrative law judge's (“ALJ”) initial determination (“ID”) (Order No. 15), granting a joint motion to terminate the investigation on the basis of settlement. The investigation is terminated.

FOR FURTHER INFORMATION CONTACT: Sidney A. Rosenzweig, Office of the General Counsel, U.S. International Trade Commission, 500 E Street SW, Washington, DC 20436, telephone (202) 708-2532. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on August 21, 2018, based on a complaint filed by Carl Zeiss SMT GmbH of Oberkochen, Germany. 83 FR 42317, 42318 (Aug. 21, 2018). The complaint alleged violations of section 337 of the Tariff Act of 1930, as amended, 19 U.S.C. 1337, in the importation, sale before importation, and sale in the United States after importation of certain lithography machines and systems and components thereof by reason of the infringement of certain claims of U.S. Patent No. 8,902,407 and U.S. Patent No. 9,280,058. Id. The notice of investigation named as respondents Nikon Corporation of Tokyo, Japan, as well as Nikon Research Corporation of America and Nikon Precision Inc., both of Belmont, California. Id. The Office of Unfair Import Investigations did not participate in this investigation.

On February 22, 2019, the parties jointly moved to terminate the investigation based on settlement. No responses were filed.

On March 18, 2019, the presiding ALJ issued the subject ID (Order No. 15) granting the motion. The ID finds that the motion complies with Commission Rule 210.21, see 19 CFR 210.21(a)-(b), and that the settlement agreement will not adversely affect the public interest, 19 CFR 210.50(b)(2). ID at 1-2.

No petitions for review of the ID were filed.

The Commission has determined not to review the ID. The investigation is terminated.

The authority for the Commission's determination is contained in section 337 of the Tariff Act of 1930, as amended (19 U.S.C. 1337), and in Part 210 of the Commission's Rules of Practice and Procedure (19 CFR part 210).

By order of the Commission.
Issued: April 10, 2019.
Lisa Barton,
Secretary to the Commission.

[FR Doc. 2019-07514 Filed 4-15-19; 8:45 am]

BILLING CODE 7020-02-P